DEPARTMENT OF COMMERCE

International Trade Administration

[A-570-920]

Lightweight Thermal Paper From the People's Republic of China: Rescission of Antidumping Duty Review; 2011-2012

AGENCY: Import Administration, International Trade Administration, Department of Commerce.

DATES: Effective Date: July 19, 2013.

FOR FURTHER INFORMATION CONTACT: Eve Wang or Eugene Degnan, AD/CVD Operations, Office 8, Import Administration, International Trade Administration, U.S. Department of Commerce, 14th Street and Constitution Avenue NW., Washington, DC 20230, at (202) 482-6231 or (202) 482-0414, respectively.

SUMMARY: The Department of Commerce (“Department”) is rescinding the 2011-2012 antidumping duty administrative review on lightweight thermal paper from the People's Republic of China (“PRC”) because Appleton Papers Inc. (“Petitioner”), timely withdrew its request for review.

SUPPLEMENTARY INFORMATION:

Background

On November 5, 2012, the Department published a notice of opportunity to request an administrative review of the antidumping duty order on lightweight thermal paper from the PRC.¹ The period of review (“POR”) is November 1, 2011, through October 31, 2012. On November 30, 2012, the Department received a timely request from Petitioner to conduct an administrative review of Shanghai Hanhong Paper Co., Ltd. and Hanhong International Limited; Guangdong Guanhao High-Tech Co., Ltd.; Henan Province Jianghe Paper Co., Ltd., Jianghe Paper Co., Ltd., and JHT Paper; New Pride Co., Ltd.; and Shenzhen Taizhou Industrial Development Co., Ltd. In this case, there were no other requests for an administrative review by any other party. Pursuant to this request, the Department initiated an administrative review of the antidumping duty order on lightweight thermal paper from the PRC for the POR.² On April 1, 2013, Petitioner withdrew its request for review for all of the aforementioned parties for which it had made a review request.

¹ See Antidumping or Countervailing Duty Order, Finding, or Suspended Investigation; Opportunity to Request Administrative Review, 77 FR 66437 (November 5, 2012).

² See Initiation of Antidumping and Countervailing Duty Administrative Reviews and Request for Revocation in Part, 77 FR 77017 (December 31, 2012).

Scope of the Order

The merchandise covered by this review includes certain lightweight thermal paper, which is thermal paper with a basis weight of 70 grams per square meter (g/m²) (with a tolerance of ± 4.0 g/m²) or less; irrespective of dimensions; ³ with or without a base coat ⁴ on one or both sides; with thermal active coating(s) ⁵ on one or both sides that is a mixture of the dye and the developer that react and form an image when heat is applied; with or without a top coat; ⁶ and without an adhesive backing. Certain lightweight thermal paper is typically (but not exclusively) used in point-of-sale applications such as ATM receipts, credit card receipts, gas pump receipts, and retail store receipts. The merchandise subject to this review may be classified in the Harmonized Tariff Schedule of the United States (“HTSUS”) under subheadings 3703.10.60, 4811.59.20, 4811.90.8040, 4811.90.9090, 4820.10.20, 4823.40.00, 4811.90.8030, 4811.90.8050, 4811.90.9030, and 4811.90.9050.7 8 Although HTSUS subheadings are provided for convenience and customs purposes, the written description of the scope of the order is dispositive.

³ Lightweight thermal paper is typically produced in jumbo rolls that are slit to the specifications of the converting equipment and then converted into finished slit rolls. Both jumbo and converted rolls (as well as lightweight thermal paper in any other form, presentation, or dimension) are covered by the scope of these orders.

⁴ A base coat, when applied, is typically made of clay and/or latex and like materials and is intended to cover the rough surface of the paper substrate and to provide insulating value.

⁵ A thermal active coating is typically made of sensitizer, dye, and co-reactant.

⁶ A top coat, when applied, is typically made of polyvinyl acetone, polyvinyl alcohol, and/or like materials and is intended to provide environmental protection, an improved surface for press printing, and/or wear protection for the thermal print head.

⁷ HTSUS subheading 4811.90.8000 was a classification used for lightweight thermal paper until January 1, 2007. Effective that date, subheading 4811.90.8000 was replaced with 4811.90.8020 (for gift wrap, a non-subject product) and 4811.90.8040 (for “other” including lightweight thermal paper). HTSUS subheading 4811.90.9000 was a classification for lightweight thermal paper until July 1, 2005. Effective that date, subheading 4811.90.9000 was replaced with 4811.90.9010 (for tissue paper, a non-subject product) and 4811.90.9090 (for “other,” including lightweight thermal paper).

⁸ As of January 1, 2009, the International Trade Commission deleted HTSUS subheadings 4811.90.8040 and 4811.90.9090 and added HTSUS subheadings 4811.90.8030, 4811.90.8050, 4811.90.9030, and 4811.90.9050 to the HTSUS (2009). See HTSUS (2009), available at <ww.usitc.gov>. These HTSUS subheadings were added to the scope of the order in lightweight thermal paper's underlying investigation.

Rescission of Administrative Review

Pursuant to 19 CFR 351.213(d)(1), the Secretary will rescind an administrative review, in whole or in part, if the party that requested the review withdraws the request within 90 days of the date of publication of the notice of initiation of the requested review. In this case, Petitioner timely withdrew its request for a review, and no other interested party requested a review of the aforementioned parties. Therefore, the Department is rescinding the administrative review of the antidumping duty order on lightweight thermal paper from the PRC covering the period November 1, 2011, through October 31, 2012, in its entirety, in accordance with 19 CFR 351.213(d)(1).

Assessment

The Department will instruct U.S. Customs and Border Protection (“CBP”) to assess antidumping duties on all appropriate entries of lightweight thermal paper from the PRC during the POR at rates equal to the cash deposit of estimated antidumping duties required at the time of entry, or withdrawal from warehouse, for consumption, in accordance with 19 CFR 351.212(c)(1)(i). The Department intends to issue appropriate assessment instructions to CBP 15 days after the publication of this notice in the Federal Register.

Notification to Importers

This notice serves as a final reminder to importers of their responsibility under 19 CFR 351.402(f)(2) to file a certificate regarding the reimbursement of antidumping duties prior to liquidation of the relevant entries during the POR.

This notice also serves as a reminder to parties subject to administrative protective order (“APO”) of their responsibility concerning the disposition of proprietary information disclosed under APO, in accordance with 19 CFR 351.305 and as explained in the APO itself. Timely written notification of the return/destruction of APO materials or conversion to judicial protective order is hereby requested. Failure to comply with the regulations and the terms of an APO is a sanctionable violation.

This notice is in accordance with section 777(i)(1) of the Tariff Act of 1930, as amended, and 19 CFR 351.213(d)(4).

Dated: July 15, 2013.
Christian Marsh,
Deputy Assistant Secretary for Antidumping and Countervailing Duty Operations.

[FR Doc. 2013-17386 Filed 7-18-13; 8:45 am]

BILLING CODE 3510-DS-P